DEPARTMENT OF VETERANS AFFAIRS

Privacy Act of 1974; Amendment of Systems Notice; Appointment of New System Manager

AGENCY: Department of Veterans Affairs.

ACTION: Notice; amendment of systems of records.

SUMMARY: As required by the Privacy Act of 1974, 5 U.S.C. 552(a)(e), notice is hereby given that the Department of Veterans (VA) is changing the System Manager, system number and address in three systems of records.

DATES: These amendments are effective on May 4, 2000.

FOR FURTHER INFORMATION CONTACT: Director, Field Liaison Staff (20SA), Office of Information Management, Veterans Benefits Administration, VA Central Office, 810 Vermont Avenue, NW, Washington, DC 20420, (202) 273-6947.

Approved: April 18, 2000.
Togo D. West, Jr.,
Secretary of Veterans Affairs.

Notice of Amendment to Systems of Records

1. The system identified as 38VA23, “Veterans and Beneficiaries Identification and Records Location Subsystem-VA,” published at 40 FR 38095 (8/26/75), completely revised at 47 FR 367 (1/5/82) and amended at 48 FR 45491 (10/15/83), 50 FR 13448 (4/4/85), 60 FR 32210 (6/20/95), 63 FR 7196 (2/12/98), and 64 5862 (2/5/99) is amended to read as follows:

38VA21

System Name:

Veterans and Beneficiaries Identification and Records Location Subsystem-VA

* * * * *

System Manager(s) and Address:

Director, Compensation and Pension Service (21), VA Central Office, 810 Vermont Avenue, NW, Washington, DC 20420.

2. The system identified as 45VA23, “Veterans Assistance Discharge System” which was established at 40 FR 38095 (8/26/75), completely revised at 47 FR 367 (1/5/82), and amended at 51 FR 36894 (10/16/86), and 52 FR 24086 (6/26/87) is amended to read as follows:

45FVA21

System Name:

Veterans Assistance Discharge System-VA.

* * * * *

System Manager(s) and Address:

Director, Compensation and Pension Service (21), VA Central Office, 810 Vermont Avenue, NW, Washington, DC 20420.

3. The system identified as 60VA23, “Repatriated American Prisoners of War-VA” established at 44 FR 36287 (6/21/79) and amended at 46 FR 16173 (3/11/81), 48 FR 38708 (8/25/83), and 50 FR 36952 (9/10/85) is amended to read as follows:

60VA21

System name:

Repatriated American Prisoners of War-VA.

* * * * *

System Manager(s) and Address:

Director, Compensation and Pension Service (21), VA Central Office, 810 Vermont Avenue, NW, Washington, DC 20420.

[FR Doc. 00-11086 Filed 5-3-00; 8:45 am]

BILLING CODE 8320-01-M